DEPARTMENT OF THE INTERIOR

Fish and Wildlife Service

Aquatic Nuisance Species Task Force Great Lakes Panel Meeting

AGENCY: Fish and Wildlife Service, Interior.

ACTION: Notice of meeting.

SUMMARY: This notice announces a meeting of the Aquatic Nuisance Species (ANS) Task Force Great Lakes Panel. The Great Lakes Panel meeting will be held in conjunction with a workshop entitled “Rapid Response Plan for Great Lakes Aquatic Invasions”. The meeting topics are identified in the SUPPLEMENTARY INFORMATION.

DATES: The Great Lakes Panel will meet from 9 a.m. to 5 p.m. on Tuesday, July 22, 2003, and from 8 a.m. to noon on Wednesday, July 23, 2003. The Rapid Response workshop will be held from 1 p.m. to 5 p.m. on Wednesday, July 23, 2003, and from 8 a.m. to 4 p.m. on Thursday, July 24, 2003.

ADDRESSES: The Great Lakes Panel meeting and Rapid Response workshop will be held at the Courtyard Marriott of Ann Arbor, 3205 Boardwalk, Ann Arbor, Michigan 48108. Phone (734) 995-5900.

FOR FURTHER INFORMATION CONTACT: Kathe Glassner-Shwayder, Project Manager, Great Lakes Commission, at 734-971-9135 or Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces a meeting of the Aquatic Nuisance Species Task Force Great Lakes Panel. The Task Force was established by the Nonindigenous Aquatic Nuisance Prevention and Control Act of 1990.

The Great Lakes Panel, comprised of representatives from federal, State, and local agencies and from private environmental and commercial interests, performs the following activities:

(a) Identifies priorities for the Great Lakes Region with respect to aquatic nuisance species;

(b) Makes recommendations to the Task Force regarding programs to carry out zebra mussel programs;

(c) Assists the Task Force in coordinating Federal aquatic nuisance species program activities in the Great Lakes region;

(d) Coordinates, where possible, aquatic nuisance species program activities in the Great Lakes region that are not conducted pursuant to the Nonindigenous Aquatic Nuisance Prevention and Control Act of 1990 (as amended, 1996);

(e) Provides advice to public and private individuals and entities concerning methods of controlling aquatic nuisance species; and

(f) Submits an annual report describing activities within the Great Lakes region related to aquatic nuisance species prevention, research, and control.

Topics to be addressed at the panel meeting include: An update on panel products and activities; updates on national issues such as the ANS Task Force, the National Invasive Species Council, and the National Aquatic Invasive Species Act; an update on the development of ballast water standards; an update on the dispersal barrier project and related concerns on nonindigenous fish invasions; a discussion on the expansion of Ruffe into Lake Michigan; a discussion on the Panel priorities in areas of information, education, research coordination, and policy and legislation; and updates from the Information/Education Committee, the Research Coordination Committee, and the Policy and Legislation Committee. The agenda for the Rapid Response Workshop includes; an overview of the need for early warning and rapid response to new invasive species in the United States; an overview of ANS Task Force and Federal perspectives on ANS Rapid response; an overview of the multi-jurisdictional experience in coordinating responses to chemical spills as a model for ANS rapid response; an overview on the role of monitoring for early detection; discussions during breakout sessions on communication, public outreach, detection and monitoring, decision support and scientific assessment, management options, implementation, and adaptive management as components of a rapid response plan; and an overview of the operational challenges associated with developing and implementing a rapid response plan.

Minutes of the meeting will be maintained by the Executive Secretary, Aquatic Nuisance Species Task Force, Suite 810, 4401 North Fairfax Drive, Arlington, Virginia 22203-1622, and will be available for public inspection during regular business hours, Monday through Friday.

Dated: June 13, 2003.
Mamie Parker,
Co-Chair, Aquatic Nuisance Species Task Force, Assistant Director—Fisheries & Habitat Conservation.

[FR Doc. 03-16660 Filed 7-1-03; 8:45 am]

BILLING CODE 4310-55-M